DEPARTMENT OF COMMERCE

Foreign-Trade Zones Board

[B-26-2015]

Foreign-Trade Zone (FTZ) 39—Dallas-Fort Worth, Texas, Notification of Proposed Production Activity, Valeo North America, Inc. d/b/a Valeo Compressor North America, (Motor Vehicle Air-Conditioner Compressors), Dallas, Texas

Valeo North America, Inc. d/b/a Valeo Compressor North America (Valeo), an operator of FTZ 39, submitted a notification of proposed production activity to the FTZ Board for its facility in Dallas, Texas, within FTZ 39. The notification conforming to the requirements of the regulations of the FTZ Board (15 CFR 400.22) was received on April 20, 2015.

Valeo already has authority to produce air-conditioner compressor assemblies for motor vehicles. The current request would add a new finished product (electromagnetic compressor/clutch assemblies) and certain foreign-status components to the scope of authority. Pursuant to 15 CFR 400.14(b), additional FTZ authority would be limited to the specific foreign-status materials and components and specific finished products described in the submitted notification (as described below) and subsequently authorized by the FTZ Board.

Production under FTZ procedures could exempt Valeo from customs duty payments on the foreign status components used in export production. On its domestic sales, Valeo would be able to choose the duty rates during customs entry procedures that apply to air-conditioner compressor assemblies (free) and electromagnetic compressor/clutch assemblies (3.1%) for the foreign status materials and components noted below and in the existing scope of authority. Customs duties also could possibly be deferred or reduced on foreign status production equipment.

The components sourced from abroad include: compressor/clutch assemblies; compressor bodies and housings; coils; rotors; armatures; and, fittings (parts of compressors) (duty rate ranges from free to 3.1%).

Public comment is invited from interested parties. Submissions shall be addressed to the FTZ Board's Executive Secretary at the address below. The closing period for their receipt is June 15, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Pierre Duy at Pierre.Duy@trade.gov or (202) 482-1378.

Dated: April 27, 2015.
Andrew McGilvray,
Executive Secretary.

[FR Doc. 2015-10386 Filed 5-1-15; 8:45 am]

BILLING CODE 3510-DS-P